DEPARTMENT OF COMMERCE

International Trade Administration

[A-580-812]

Dynamic Random Access Memory Semiconductors of One Megabit or Above (“DRAMs”) From the Republic of Korea: Extension of Time Limit for Preliminary Results of Antidumping Duty Administrative Review

AGENCY: Import Administration, International Trade Administration, Department of Commerce.

EFFECTIVE DATE: January 30, 2001.

FOR FURTHER INFORMATION CONTACT: Paige Rivas at (202) 482-0651, AD/CVD Enforcement, Office IV, Group II, Import Administration, International Trade Administration, U.S. Department of Commerce, 14th Street and Constitution Ave, NW, Washington, DC 20230.

Time Limits

Statutory Time Limits

Section 751(a)(3)(A) of the Tariff Act of 1930, as amended (“the Act”), requires the Department to make a preliminary determination within 245 days after the last day of the anniversary month of an order for which a review is requested and a final determination within 120 days after the date on which the preliminary determination is published. However, if it is not practicable to complete the review within these time periods, section 751(a)(3)(A) of the Act allows the Department to extend the time limit for the preliminary determination to a maximum of 365 days and for the final determination to 180 days (or 300 days if the Department does not extend the time limit for the preliminary determination) from the date of publication of the preliminary determination.

Background

On July 7, 2000, the Department published a notice of initiation of administrative review of the antidumping duty order on DRAMs from Korea, covering the period May 1, 1999, through April 30, 2000 (65 FR 131).

The antidumping dumping duty order for DRAMs from Korea was revoked, pursuant to the sunset procedures established by statute, effective January 1, 2000. See Dynamic Random Access Memory Semiconductors (“DRAMs”) of One Megabit and Above From the Republic of Korea; Final Results of Full Sunset Review and Revocation of Order, 65 FR 1471366 (October 5, 2000). However, we are conducting this review to cover sales of the subject merchandise made in the United States by Hyundai and LG during the 8-month period from May 1, 1999, until the effective date of the revocation, December 31, 1999. The preliminary results are currently due no later than January 30, 2001.

Extension of Time Limit for Preliminary Results of Review

We determine that it is not practicable to complete the preliminary results of this review within the original time limit. Therefore, the Department is extending the time limit for completion of the preliminary results until no later than May 30, 2001. See Decision Memorandum from Thomas Futtner to Holly A. Kuga, dated January 10, 2001, which is on file in the Central Records Unit, Room B-099 of the main Commerce building. We intend to issue the final results no later than 120 days after the publication of the preliminary results notice.

This extension is in accordance with section 751(a)(3)(A) of the Act and 19 CFR 351.213(h)(2).

Dated: January 22, 2001.
Melissa G. Skinner,
Acting Deputy Assistant Secretary for Import Administration.

[FR Doc. 01-2528 Filed 1-29-01; 8:45 am]

BILLING CODE 3510-DS-P